CONSUMER PRODUCT SAFETY COMMISSION

Sunshine Act Meeting

TIME AND DATE: Wednesday, August 21, 2013, 10 a.m.-11 a.m.

PLACE: Room 420, Bethesda Towers, 4330 East West Highway, Bethesda, Maryland.

STATUS: Commission Meeting—Open to the Public

MATTERS TO BE CONSIDERED Decisional Matter: Bassinets and Cradles—Final Rule.

A live Webcast of the Meeting can be viewed at www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: August 16, 2013.
Todd A. Stevenson,
Secretary.

[FR Doc. 2013-20470 Filed 8-19-13; 11:15 am]

BILLING CODE 6355-01-P